DEPARTMENT OF TRANSPORTATION

Surface Transportation Board

[Docket No. FD 35897]

R. J. Corman Railroad Company/Carolina Lines, LLC—Acquisition and Operation Exemption—The Baltimore and Annapolis Railroad Company d/b/a Carolina Southern Railroad Company

R. J. Corman Railroad Company/Carolina Lines, LLC (RJC-Carolina), a noncarrier, has filed a verified notice of exemption under 49 CFR 1150.31 to acquire from The Baltimore and Annapolis Railroad Company d/b/a Carolina Southern Railroad Company (CALA) and operate two interconnected rail lines totaling approximately 74.9 miles in North Carolina and South Carolina (the Line). The Line extends from: (1) Milepost AL 326.0, at Mullins, S.C., to milepost AC 290.0, at Whiteville, N.C.; and (2) milepost ACH 297.2, at Chadbourn, N.C., to milepost ACH 336.1, at Conway, S.C. RJC-Carolina will also acquire one mile of incidental, local trackage rights from CALA, extending between milepost AC 290.0 and milepost AC 289.0, at or near Whiteville.

This transaction is related to a concurrently filed verified notice of exemption in R. J. Corman Railroad Group—Continuance in Control Exemption—R. J. Corman Railroad/Carolina Lines, Docket No. FD 35898, in which R. J. Corman Railroad Group, LLC, and R. J. Corman Railroad Company, LLC, seek Board approval under 49 CFR 1180.2(d)(2) to continue in control of RJC-Carolina upon RJC-Carolina's becoming a Class III rail carrier.

RJC-Carolina certifies that its projected revenues upon consummation of the proposed transaction will not result in the creation of a Class I or Class II rail carrier and states that its projected annual revenues will not exceed $5 million.

RJC-Carolina states that it intends to consummate the proposed transaction on or after February 11, 2015, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than February 4, 2015 (at least seven days before the exemption becomes effective).

An original and 10 copies of all pleadings, referring to Docket No. FD 35897, must be filed with the Surface Transportation Board, 395 E Street SW., Washington, DC 20423-0001. In addition, a copy of each pleading must be served on Robert A. Wimbish, Fletcher & Sippel LLC, 29 North Wacker Drive, Suite 920, Chicago, IL 60606-2832.

Board decisions and notices are available on our Web site at “WWW.STB.DOT.GOV.”

Decided: January 23, 2015.
By the Board, Rachel D. Campbell, Director, Office of Proceedings.
Raina S. White,
Clearance Clerk.

[FR Doc. 2015-01553 Filed 1-27-15; 8:45 am]

BILLING CODE 4915-01-P